DEPARTMENT OF ENERGY

Federal Energy Regulatory Commission

[Project No. 10198-033]

City of Pelican, AK; Notice of Application Tendered for Filing With the Commission and Soliciting Additional Study Requests and Establishing Procedural Schedule for Relicensing and a Deadline for Submission of Final Amendments

Take notice that the following hydroelectric application has been filed with the Commission and is available for public inspection.

a. Type of Application: New Minor License.¹

¹ The licensee filed an application for a subsequent license, but because the existing license did not include waiver of sections 14 and 15 of the FPA, any license issued in response to this application will be a new license pursuant to 18 CFR 16.2(a).

b. Project No.: 10198-033.

c. Date filed: September 16, 2024.

d. Applicant: City of Pelican, AK.

e. Name of Project: Pelican Hydroelectric Project.

f. Location: The project is located on the Pelican Creek in the City of Pelican, Alaska. The project does not occupy federal land.

g. Filed Pursuant to: Federal Power Act 16 U.S.C. 791 (a)-825(r).

h. Applicant Contact: Mayor Patricia Phillips, P.O. Box 737, Pelican, AK; 907-735-2202; mayorphillips@pelicancity.org.

i. FERC Contact: Ingrid Brofman, 202-502-8347, ingrid.brofman@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: November 15, 2024.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Pelican Hydroelectric Project (P-10198-033).

m. The application is not ready for environmental analysis at this time.

n. Project Description: The Pelican Project consists of the following existing facilities: (1) a 12-foot-wide by 22-foot-high rock-filled crib dam buttressed with steel A-frames impounding a reservoir with a net storage capacity of approximately 4.4 acre-feet at an elevation of 143 feet mean sea level; (2) a rectangular steel and concrete intake structure; (3) a 48-inch-diameter, 704-foot-long high density polyethylene pipe leading to a surge tank; (4) a 42-inch-diameter, 316-foot-long high density polyethylene penstock; (5) a powerhouse containing two generating units rated at 600 kW and 100 kW, operating under a gross head of 115 feet; (6) a 80-foot-long, 4.16-kilovolt transmission line; (7) a 480/4,160-volt, 0.75-megavolt-ampere step-up transformer; (8) a 500-foot-long access road; and (9) appurtenant facilities. The City of Pelican proposes to continue to operate the project in a run-of-river mode.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-10198). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

p. Procedural schedule and final amendments: The application will be processed according to the following preliminary schedule. Revisions to the schedule will be made as appropriate.

Additional Study Requests due: November 2024.

Issue Deficiency Letter (if needed): November 2024.

Request for Additional Information (if needed): November 2024.

Issue Notice of Acceptance: March 2025.

Issue Scoping Document 1 for Comments: April 2025.

Issue Scoping Document 2 (if needed): June 2025.

Final amendments to the application must be filed with the Commission no later than 30 days from the issuance date of the notice of ready for environmental analysis.

Dated: September 27, 2024.
Debbie-Anne A. Reese,
Acting Secretary.

[FR Doc. 2024-22850 Filed 10-2-24; 8:45 am]

BILLING CODE 6717-01-P